DEPARTMENT OF THE INTERIOR

Bureau of Land Management

[223.LLAK941200.L14400000.ET0000; AA-82857]

Notice of Application for Extension of Public Land Order No. 7555 and Opportunity for Public Meeting; Alaska

AGENCY: Bureau of Land Management, Interior.

ACTION: Notice.

SUMMARY: The United States Forest Service (USFS) has filed an application with the Bureau of Land Management (BLM) requesting that the Secretary of the Interior extend Public Land Order (PLO) No. 7555 for an additional 20-year term. PLO No. 7555 withdrew 2,998 acres of National Forest System lands from location and entry under the United States mining laws, for protection of the Russian River and Upper Russian Lake Recreation Corridor near Cooper Landing, Alaska. This notice advises the public of an opportunity to comment on this application for a withdrawal extension and to request a public meeting.

DATES: Comments and requests for a public meeting regarding this withdrawal application must be received by August 22, 2022.

ADDRESSES: Comments and public meeting requests should be sent to the Alaska State Director, BLM Alaska State Office, 222 West Seventh Avenue, No. 13, Anchorage, Alaska 99513-7504 or by email at blm_ak_state_director@blm.gov.

FOR FURTHER INFORMATION CONTACT: Chelsea Kreiner, BLM Alaska State Office, (907) 271-4205, email ckreiner@blm.gov, or you may contact the BLM office at the address above. Individuals in the United States who are deaf, deafblind, hard of hearing, or have a speech disability may dial 7-1-1 (TTY, TDD, or Tele Braille) to access telecommunications relay services. Individuals outside the United States should use the relay services offered within their country to make international calls to the point-of-contact in the United States. The relay service is available 24 hours a day, 7 days a week. You will receive a reply during normal business hours.

SUPPLEMENTARY INFORMATION: The withdrawal established by PLO No. 7555 (68 FR 7387, (2003)), incorporated herein by reference, will expire February 12, 2023. The USFS has filed an application requesting the Secretary extend PLO No. 7555 for an additional 20-year term. The purpose of the withdrawal extension is to continue recreational utilization and protection of the Russian River watershed near Cooper Landing, Alaska.

A complete description of the lands requested, along with all other records pertaining to the extension, can be examined in the BLM Alaska State Office at the address shown above.

The use of a rights-of-way, interagency, or cooperative agreement would not adequately constrain non-discretionary uses that may result in disturbance of the lands embraced within the Russian River and Upper Russian Lake Recreation Corridor.

There are no suitable alternative sites as the described lands contain the resource values to be protected.

No additional water rights will be needed to fulfill the purpose of the requested withdrawal.

Notice is hereby given that an opportunity for a public meeting is afforded in connection with this withdrawal extension. All interested parties who desire a public meeting for the purpose of being heard on this withdrawal extension application must submit a written request to the Alaska State Director, BLM Alaska State Office at the address in the ADDRESSES section, within August 22, 2022 of this notice. Upon determination by the authorized officer that a public meeting will be held, the BLM will publish a notice of the date, time, and place in the Federal Register and local newspapers, and will post on the BLM website at www.blm.gov/alaska at least 30 days before the scheduled date of the meeting.

Before including your address, phone number, email address, or other personal identifying information in your comment, you should be aware that your entire comment including your personal identifying information may be made publicly available at any time. While you can ask us in your comment to withhold your personal identifying information from public review, we cannot guarantee that we will be able to do so.

The withdrawal extension application will be processed in accordance with the regulations set-forth in 43 CFR 2310.4 and subject to Section 810 of the Alaska National Interest Lands Conservation Act, (16 U.S.C. 3120).

(Authority: 43 CFR 2310.4)

Thomas Heinlein,
Acting Alaska State Director.

[FR Doc. 2022-11104 Filed 5-23-22; 8:45 am]

BILLING CODE 3411-15-P